DEPARTMENT OF THE INTERIOR

Bureau of Reclamation

[RR01313000, 18XR0680A1, RX.00036916.5002000]

Notice of Availability of the Draft Environmental Impact Statement and Public Open Houses for the Boise River Basin Feasibility Study, Elmore County, Idaho

AGENCY: Bureau of Reclamation, Interior.

ACTION: Notice of availability.

SUMMARY: The Bureau of Reclamation (Reclamation) has made available for public review and comment the Boise River Basin Feasibility Study Draft Environmental Impact Statement (EIS). The Draft EIS describes the potential environmental effects of a dam raise at Anderson Ranch Dam.

DATES: Reclamation will be conducting virtual public involvement beginning in August 2020 with written comments on the Draft EIS due on or before September 14, 2020. The public will have the opportunity to participate in the process by providing input through a web-based virtual meeting room from July 31, 2020, to September 14, 2020.

ADDRESSES: Provide written comments, requests to be added to the mailing list, or requests for sign language interpretation for the hearing impaired or other special assistance needs to Ms. Selena Moore, Project Manager, Bureau of Reclamation, Snake River Area Office, 230 Collins Road, Boise, Idaho 83702 or via email to BOR-SRA-BoiFeasibility@usbr.gov. For comments related to project activities that must be authorized by the U.S. Forest Service, be sure to write “ATTN: Tawnya Brummett” to the previously provided address if providing a comment through the mail. If sending an email comment, include “ATTN: Tawnya Brummett” in the subject line.

FOR FURTHER INFORMATION CONTACT: Ms. Selena Moore, Bureau of Reclamation, Snake River Area Office, 230 Collins Road, Boise, Idaho 83702; telephone (208) 383-2207; facsimile (208) 383-2210; email BOR-SRA-BoiFeasibility@usbr.gov. Persons who use a telecommunications device for the deaf may call the Federal Relay Service (FedRelay) at 1-800-877-8339 TTY/ASCII to contact the above individual during normal business hours or to leave a message or question after hours. You will receive a reply during normal business hours. Information on this project may also be found at: https://www.usbr.gov/pn/studies/boisefeasibility/index.html.

SUPPLEMENTARY INFORMATION: Reclamation is issuing this notice pursuant to the National Environmental Policy Act of 1969, as amended (NEPA), 42 U.S.C. 4321 et seq.; the Council on Environmental Quality's regulations for implementing NEPA, 43 CFR parts 1500 through 1508; U.S. Forest Service (USFS) NEPA regulations, 36 CFR part 220; USFS pre-decisional review regulations, 36 CFR part 218; and the Department of the Interior's NEPA regulations, 43 CFR part 46.

Background

Under the Omnibus Public Land Management Act of 2009 (Omnibus Act), Public Law 111-11, Section 9001, Congress authorized Reclamation to conduct feasibility studies on projects that address water shortages within the Boise River Basin System and that are considered appropriate for study by Reclamation's 2006 Boise/Payette Water Storage Assessment Report (2006 Assessment Report). The action proposed was identified in the 2006 Assessment Report as appropriate for study and is the subject of an ongoing feasibility study pursuant to the Omnibus Act and the Water Infrastructure Improvements for the Nation (WIIN) Act of 2016. The WIIN Act authorizes Reclamation to enter into agreements with requesting states or subdivisions thereof to design, study, construct, or expand federally owned storage projects, and Congress has specified that this project be studied under WIIN Act authority. Public Law 114-322, Section 4007.

The Draft EIS analyzes three alternatives. Alternative A is the No Action. Alternative B is a 6-foot Dam Raise at Anderson Ranch Dam. Alternative C is a 3-foot Dam Raise at Anderson Ranch Dam. Reclamation, in partnership with the Idaho Water Resource Board (IWRB), proposes to raise Anderson Ranch Dam allowing the ability to capture and store additional water. This new space would allow Reclamation to capture additional water when available during wet years for supplemental supply and to hold over for use during dry years. Potential spaceholders include existing Reclamation contractors and the IWRB, which could in turn contract water to existing Water District 63 water users and/or may offer water through the Idaho water supply bank's Water District 63 rental pool.

Proposed dam structure modifications include:

• Demolish existing spillway crest structure and bridge;

• Construct new crest structure;

• Remove, rehabilitate, and re-install the existing radial gates;

• Construct a new two-lane road across the dam; and

• Widen right abutment to improve turning radius for traffic.

The existing road across the dam would be closed during construction. An alternative route has been identified that would provide safe public transport. There would likely be a reservoir restriction of 6-10 feet during spillway construction.

In addition to work on the dam, the project would include modification to structures around the reservoir such as culverts, bridges, and recreation sites.

Reclamation is not presently aware of any known or possible Indian Trust Assets or environmental justice issues associated with the proposed action but requests any information relative to this issue be submitted during the comment period.

The Draft EIS review process and public open houses identified in this notice are intended to inform the public about the project and to request public and agency comment on the EIS.

The USFS is a cooperating agency. Cooperating agencies have jurisdiction by law or special expertise with respect to resources potentially affected by the proposal and participate in the NEPA analysis. The USFS provided input into the analyses, conclusions, and recommendations presented in the Draft EIS. Following issuance of the Final EIS, the USFS will issue a subsequent decision for the Project in accordance with Forest Service regulatory requirements.

The USFS would also use this Draft EIS to evaluate proposed actions and determine compliance with the 2010 Boise National Forest Land and Resources Plan that would make provisions for the project activities.

Public Disclosure

Before including your address, phone number, email address, or other personal identifying information in your comment, you should be aware that your entire comment—including your personal identifying information—may be made publicly available at any time. While you may ask us in your comment to withhold your personal identifying information from public review, we cannot guarantee that we will be able to do so.

Lorri J. Gray,
Regional Director, Bureau of Reclamation, Interior Region 9—Columbia-Pacific Northwest.

[FR Doc. 2020-16512 Filed 7-30-20; 8:45 am]

BILLING CODE 4332-90-P